ENVIRONMENTAL PROTECTION AGENCY

[FRL-8724-6]

EPA Science Advisory Board; Notification of a Public Meeting of the Science Advisory Board Environmental Economics Advisory Committee (EEAC)

AGENCY: Environmental Protection Agency (EPA).

ACTION: Notice.

SUMMARY: The EPA's Science Advisory Board (SAB) Staff Office is announcing a public meeting of the SAB Environmental Economics Advisory Committee (EEAC) to review EPA's revised Guidelines for Preparing Economic Analyses.

DATES: The meeting will take place from 8:30 a.m. to 5 p.m. (Eastern Time) on October 23, 2008 and from 8:30 a.m. to 12 p.m. on October 24, 2008.

ADDRESSES: The meeting will be held in the SAB Conference Center located at 1025 F Street, NW., Suite 3705, Washington, DC 20004.

FOR FURTHER INFORMATION CONTACT: Any member of the public wishing further information regarding the public meeting and call-in numbers may contact Dr. Holly Stallworth, Designated Federal Officer (DFO), U.S. EPA Science Advisory Board Staff Office by telephone/voice mail at (202) 343-9867, or via e-mail at stallworth.holly@epa.gov. The SAB mailing address is: U.S. EPA, Science Advisory Board (1400F), 1200 Pennsylvania Avenue, NW., Washington, DC 20460. General information about the SAB, as well as any updates concerning the meeting announced in this notice, may be found in the SAB Web site at http://www.epa.gov/sab.

SUPPLEMENTARY INFORMATION: Pursuant to the Federal Advisory Committee Act, Public Law 92-463, notice is hereby given that the SAB Environmental Economics Advisory Committee will hold a public meeting to review EPA's revised Guidelines for Preparing Economic Analyses posted at http://yosemite.epa.gov/EE/epa/eerm.nsf/vwRepNumLookup/EE-0516?OpenDocument. The SAB was established by 42 U.S.C. 4365 to provide independent scientific and technical advice to the Administrator on the technical basis for Agency positions and regulations. The SAB is a Federal Advisory Committee chartered under the Federal Advisory Committee Act (FACA), as amended, 5 U.S.C., App. The SAB will comply with the provisions of FACA and all appropriate SAB Staff Office procedural policies.

Background: The mission of the EEAC is to provide independent advice to the EPA Administrator, through the chartered SAB, regarding the economic analysis of EPA's decisions. EPA's National Center for Environmental Economics (NCEE) issued the Guidelines for Preparing Economic Analyses in September 2000 to represent Agency policy on the preparation of economic analysis called for under applicable legislative and administrative requirements. Subsequently, the EEAC provided advice on the 2000 Guidelines for Preparing Economic Analyses and issued an Advisory posted at http://yosemite.epa.gov/sab/sabproduct.nsf/31C8A71147AF2AD28525719300562630/$File/eea99020.pdf. Over the past eight years, the literature has grown considerably and EPA has received new guidance from the Office of Management and Budget pertaining to the Agency's conduct of regulatory analysis. In response, NCEE has revised and updated the Guidelines for Preparing Economic Analyses and has requested the SAB's review.

Availability of Meeting Materials: Materials in support of this meeting, including an agenda and charge questions to the EEAC will be placed on the SAB Web site at http://www.epa.gov/sab prior to the meeting.

Procedures for Providing Public Input: Interested members of the public may submit relevant written or oral information for the SAB to consider during the advisory process. Oral Statements: In general, individuals or groups requesting an oral presentation at a public meeting will be limited to five minutes per speaker, with no more than a total of one hour for all speakers. Interested parties should contact Dr. Stallworth, DFO, at the contact information noted above, to be placed on the public speaker list for the October 23-24, 2008 meeting. Written Statements: Written statements should be received in the SAB Staff Office by October 16, 2008 so that the information may be made available to the SAB for their consideration prior to this teleconference. Written statements should be supplied to the DFO in the following formats: one hard copy with original signature, and one electronic copy via e-mail to stallworth.holly@epa.gov (acceptable file format: Adobe Acrobat PDF, WordPerfect, MS Word, MS PowerPoint, or Rich Text files in IBM-PC/Windows 98/2000/XP format).

Meeting Access: For information on access or services for individuals with disabilities, please contact Dr. Stallworth at (202) 343-9867 or stallworth.holly@epa.gov. To request accommodation of a disability, please contact Dr. Stallworth, preferably at least 10 days prior to the meeting to give EPA as much time as possible to process your request.

Dated: September 29, 2008.
Anthony F. Maciorowski,
Deputy Director, EPA Science Advisory Board Staff Office.

[FR Doc. E8-23374 Filed 10-2-08; 8:45 am]

BILLING CODE 6560-50-P